DEPARTMENT OF ENERGY

Office of Science; DOE/Advanced Scientific Computing Advisory Committee

AGENCY: Department of Energy.

ACTION: Notice of opening meeting.

SUMMARY: This notice announces a meeting of the Advanced Scientific Computing Advisory Committee (ASCAC). Federal Advisory Committee Act (Public Law 92-463, 86 Stat. 770) requires that public notice of these meetings be announced in the Federal Register.

DATES: Tuesday, November 6, 2007, 9 a.m. to 5:30 p.m.; Wednesday, November 7, 2007, 9 a.m. to 11:45 a.m.

ADDRESSES: Hilton Gaithersburg, 620 Perry Parkway, Gaithersburg, MD 20877.

FOR FURTHER INFORMATION CONTACT: Melea Baker, Office of Advanced Scientific Computing Research; SC-21/Germantown Building; U.S. Department of Energy; 1000 Independence Avenue, SW.; Washington, DC 20585-1290; Telephone (301) 903-7486, (E-mail: Melea.Baker@science.doe.gov).

SUPPLEMENTARY INFORMATION: Purpose of the Meeting: The purpose of this meeting is to provide advice and guidance with respect to the advanced scientific computing research program.

Tentative Agenda: Agenda will include discussions of the following:

Tuesday, November 6, 2007

Opening Remarks from the Committee Chair.

View from Washington and Germantown.

Update on SciDAC.

Quantum Simulations of Materials and Nanostructure (Q-SIMAN).

Fusion Simulation Project.

New Charge—ASCR Role in the Fusions Simulation Project (FSP).

The Role of High Performance Computing (HPC) in the Office of Science.

Report Discussion on Charge—Networking.

Report Discussion on Charge—Joint Panel with BERAC on Life Sciences Goal (GTL).

Report Discussion on Charge—Joint Panel with BERAC on Climate.

Public Comment.

Wednesday, November 7, 2007

Applied Math Update.

Applied Mathematics Strategic Planning.

Pioneer Applications at the Leadership Class Facility (LCF).

New Charge—Committee of Visitors.

Public Comment.

Public Participation: The meeting is open to the public. If you would like to file a written statement with the Committee, you may do so either before or after the meeting. If you would like to make oral statements regarding any of the items on the agenda, you should contact Melea Baker via FAX at 301-903-4846 or via e-mail Melea.Baker@science.doe.gov. You must make your request for an oral statement at least 5 business days prior to the meeting. Reasonable provision will be made to include the scheduled oral statements on the agenda. The Chairperson of the Committee will conduct the meeting to facilitate the orderly conduct of business. Public comment will follow the 10-minute rule. This notice is being published less than 15 days before the date of the meeting due to programmatic issues.

Minutes: The minutes of this meeting will be available for public review and copying within 30 days at the Freedom of Information Public Reading Room; 1E-190, Forrestal Building; 1000 Independence Avenue, SW.; Washington, DC 20585; between 9 a.m. and 4 p.m., Monday through Friday, except holidays.

Issued in Washington, DC on October 22, 2007.
Rachel Samuel,
Deputy Committee Management Officer.

[FR Doc. 07-5315 Filed 10-25-07; 8:45 am]

BILLING CODE 6450-01-P